DEPARTMENT OF ENERGY

Federal Energy Regulatory Commission

Combined Notice of Filings

Take notice that the Commission has received the following Natural Gas Pipeline Rate and Refund Report filings:

Filings Instituting Proceedings

Docket Numbers: RP18-360-000.

Applicants: Transcontinental Gas Pipe Line Company.

Description: § 4(d) Rate Filing: DPEs—New York Bay to be effective 2/25/2018.

Filed Date: 1/25/18.

Accession Number: 20180125-5042.

Comments Due: 5 p.m. ET 2/6/18.

Docket Numbers: RP18-361-000.

Applicants: Big Sandy Pipeline, LLC.

Description: Compliance filing Big Sandy Fuel Filing Effective 3-1-2018.

Filed Date: 1/25/18.

Accession Number: 20180125-5045.

Comments Due: 5 p.m. ET 2/6/18.

Docket Numbers: RP18-362-000.

Applicants: Southern LNG Company, L.L.C.

Description: § 4(d) Rate Filing: Dredging Surcharge Cost Adjustment—2018 to be effective 3/1/2018.

Filed Date: 1/25/18.

Accession Number: 20180125-5112.

Comments Due: 5 p.m. ET 2/6/18.

Docket Numbers: RP18-363-000.

Applicants: Transcontinental Gas Pipe Line Company.

Description: § 4(d) Rate Filing: Rate Schedule S-2 Tracker effective 02-01-18 to be effective 2/1/2018.

Filed Date: 1/25/18.

Accession Number: 20180125-5164.

Comments Due: 5 p.m. ET 2/6/18.

Docket Numbers: RP18-364-000.

Applicants: Stagecoach Pipeline & Storage Company LLC.

Description: § 4(d) Rate Filing: Stagecoach Pipeline & Storage Company LLC—Filing of Tariff Changes to be effective 3/1/2018.

Filed Date: 1/26/18.

Accession Number: 20180126-5078.

Comments Due: 5 p.m. ET 2/7/18.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 29, 2018.
Nathaniel J. Davis, Sr.,
Deputy Secretary.

[FR Doc. 2018-02227 Filed 2-2-18; 8:45 am]

BILLING CODE 6717-01-P